POSTAL REGULATORY COMMISSION

39 CFR Part 3030

[Docket No. RM2010-2; Order No. 314]

Modification of Complaint Rules

AGENCY: Postal Regulatory Commission.

ACTION: Direct final rule.

SUMMARY: Under new rules, postal complaints must be served on both the Commission and the Postal Service. This document informs the public of a change in the email account for service on the Postal Service.

DATES: This rule is effective December 2, 2009 without further action, unless adverse comment is received by November 23, 2009. If adverse comment is received, the Commission will publish a timely withdrawal of the rule in the Federal Register.

ADDRESSES: Submit comments electronically via the Commission's Filing Online system at http://www.prc.gov. Commenters who cannot submit their views electronically should contact the person identified in FOR FURTHER INFORMATION CONTACT by telephone for advice on alternatives to electronic filing.

FOR FURTHER INFORMATION CONTACT: Stephen L. Sharfman, General Counsel, 202-789-6820 or stephen.sharfman@prc.gov.

SUPPLEMENTARY INFORMATION: Regulatory History, 74 FR 16734 (April 10, 2009).

Section 3030.11 of the Commission's rules, 39 CFR 3030.11, specifies that complainants must serve their complaints on the Postal Service via email at a specified email address. This order changes the email address referenced in 39 CFR 3030.11. To accurately reflect the current status, the email address listed in that section is, by this order, changed from “Sandra.t.broadus@usps.gov” to “PRCCOMPLAINTS@usps.gov.”

Notice and effective date. Given the nature and limited extent of this change, the Commission is adopting it as a direct final rule. This rule is effective 40 days after publication in the Federal Register without further Commission action, unless the Commission receives adverse comment within 30 days of publication in the Federal Register.¹ If adverse comment is received, the Commission will publish a timely withdrawal of the rule in the Federal Register. The Commission directs the Secretary to arrange for publication of this order in the Federal Register.

¹ See Administrative Conference of the United States Recommendation 95-4, Procedures for Noncontroversial and Expedited Rulemaking, 60 FR 43110-13, August 18, 1995.

It is ordered:

1. The Commission adopts the direct final rule that follows the Secretary's signature into the Commission's Rules of Practice and Procedure.

2. Interested persons may submit comments within 30 days of publication in the Federal Register.

3. The Secretary shall arrange for publication of this order in the Federal Register. These actions will take effect 40 days after publication in the Federal Register.

List of Subjects in 39 CFR Part 3030

Administrative practice and procedure; Postal Service.

By the Commission.
Shoshana M. Grove,
Secretary.

For the reasons stated in the preamble, under the authority at 39 U.S.C. 503, the Postal Regulatory Commission amends chapter III of title 39 of the Code of Federal Regulations as follows:

PART 3030—RULES FOR COMPLAINTS

1. The authority citation for part 3030 continues to read as follows:

Authority: 39 U.S.C. 503; 3662.

2. Revise § 3030.11 to read as follows:

§ 3030.11 Service.

Any person filing a complaint must simultaneously serve a copy of the complaint on the Postal Service at the following address: PRCCOMPLAINTS@usps.gov. A complaint is not deemed filed until it is served on the Postal Service. A waiver may be obtained pursuant to § 3001.9(a) of this chapter.

[FR Doc. E9-25343 Filed 10-22-09; 8:45 am]

BILLING CODE 7710-FW-P